FEDERAL COMMUNICATIONS COMMISSION

Radio Broadcasting Services; AM or FM Proposals To Change the Community of License.

AGENCY: Federal Communications Commission.

ACTION: Notice.

SUMMARY: The following applicants filed AM or FM proposals to change the community of license: CBS Radio East Inc., Station WLZL, Facility ID 72177, BPH-20110812ACL, from Annapolis, MD, to Bowie, MD; Indiana Community Radio Corporation, Station WYER, Facility ID 173401, BPED-20110705AAO, from Carmi, IL, To Albion, IL; Mount Wilson FM Broadcasters, Inc., Station NEW, Facility ID 183343, BMPH-20110804ABE, from Big Sur, CA, to Molus, CA; Winton Road Broadcasting Co., LLC, Station New, Facility ID 165985, BMPH-20110812ACX, from Shiprock, NM, to Kirtland, NM.

DATES: The agency must receive comments on or before November 7, 2011.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm.

A copy of this application may also be purchased from the Commission's duplicating contractor, Best Copy and Printing, Inc., 445 12th Street, SW., Room CY-B402, Washington, DC, 20554, telephone 1-800-378-3160 or http://www.BCPIWEB.com.

Federal Communications Commission.
Peter H. Doyle,
Chief, Audio Division, Media Bureau.

[FR Doc. 2011-22745 Filed 9-6-11; 8:45 am]

BILLING CODE 6712-01-P